POSTAL SERVICE

Board of Governors; Sunshine Act Meeting

Time and Date: 8 a.m., Wednesday, March 28, 2007.

Place: Washington, DC, at U.S. Postal Service Headquarters, 475 L'Enfant Plaza, SW.

Status: Closed.

Matters to be Considered:

Wednesday, March 28 at 8 a.m. (Closed)

1. Strategic Issues.

2. Rates Implementation.

3. Labor Negotiations Update.

4. Financial Update.

5. Personnel Matters and Compensation Issues.

6. Governors' Executive Session—Discussion of prior agenda items and Board Governance.

FOR FURTHER INFORMATION CONTACT: Wendy A. Hocking, Secretary of the Board, U.S. Postal Service, 475 L'Enfant Plaza, SW., Washington, DC 20260-1000. Telephone (202) 268-4800.

Wendy A. Hocking,
Secretary.

[FR Doc. 07-1488 Filed 3-22-07; 4:43 pm]

BILLING CODE 7710-12-M